DEPARTMENT OF ENERGY

Federal Energy Regulatory Commission

Notice of Application For Transfer of License and Soliciting Comments, Motions To Intervene, and Protests

February 22, 2000.

Take notice that the following hydroelectric application has been filed with the Commission and is available for public inspection:

a. Application Type: Transfer of License

b. Project No: 297-039

c. Date Filed: January 28, 2000

d. Applicants: Yadkin, Inc. (Yadkin or transferor) and Alcoa Power Generating Inc. (Alcoa or transferee)

e. Name of Project: Yadkin

f. Location: On the Lower Yadkin stretch of the Yadkin-Pee Dee River in Stanley, Montgomery, Davidson, and Rowan Counties, North Carolina. The project does not utilize federal or tribal lands.

g. Filed pursuant to: 18 CFR 4.200

h. Applicant Contacts: For transferor—B. Julian Polk, P.O. Box 576, Badin, NC 28009, (704) 422-5617.

For transferee—Mr. David Poe or Mr. Benjamin S. Wechsler, LeBoeuf, Lamb, Green & MacRae, L.L.P., 1875 Connecticut Avenue, NW, Washington, DC 20009-5728, (202) 986-8000.

i. FERC Contact: Any questions on this notice should be addressed to Tom Papsidero at (202) 219-2715, or e-mail address: thomas.papsidero@ferc.fed.us.

j. Deadline for filing comments and/or motions: March 24, 2000

All documents (original and eight copies) should be filed with: David P. Boergers, Secretary, Federal Energy Regulatory Commission, 888 First Street, N.E., Washington, DC 20426.

Please include the project number (2197-039) on any comments or motions filed.

k. Description of Transfer: Yadkin requests approval to transfer its license to Alcoa. The applicants state that the transfer relates to Alcoa's corporate restructuring under which Yadkin became a part of Alcoa as of January 1, 2000.

l. Locations of the application: A copy of the application is available for inspection and reproduction at the Commission's Public Reference Room, located at 888 First Street, NE, Room 2A, Washington, D.C. 20426, or by calling (202) 208-1371. This filing may be viewed on http://www.ferc.fed.us/online/rims.htm (call (202) 208-2222 for assistance). Copies are also available for inspection and reproduction at the addresses in item h above.

m. Individuals desiring to be included on the Commission's mailing list should so indicate by writing to the Secretary of the Commission.

Comments, Protests, or Motions to Intervene—Anyone may submit comments, a protest, or a motion to intervene in accordance with the requirements of Rules of Practice and Procedure, 18 CFR 285.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTESTS”, OR “MOTION TO INTERVENE”, as applicable, and the Project Number of the particular application to which the filing refers. Any of the above-named documents must be filed by providing the original and the number of copies provided by the Commission's regulations to: The Secretary, Federal Energy Regulatory Commission, 888 First Street, N.E., Washington, D.C. 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-4588 Filed 2-25-00; 8:45 am]

BILLING CODE 6717-01-M